DEPARTMENT OF EDUCATION

34 CFR Part 200

RIN 1810-AB01

[Docket ID ED-2008-OESE-0003]

Title I—Improving the Academic Achievement of the Disadvantaged

AGENCY: Office of Elementary and Secondary Education, Department of Education.

ACTION: Final rule; correction.

SUMMARY: The Department of Education is correcting a final regulation that was published in the Federal Register on October 29, 2008 (73 FR 64436). The final regulations clarified and strengthened the Title I regulations in the areas of assessment, accountability, public school choice, and supplemental educational services.

DATES: Effective December 23, 2008.

FOR FURTHER INFORMATION CONTACT: Zollie Stevenson, Jr., Director, Student Achievement and School Accountability Programs, Office of Elementary and Secondary Education, U.S. Department of Education, 400 Maryland Avenue, SW., room 3W230, Washington, DC 20202-6132. Telephone: (202) 260-1824.

If you use a telecommunications device for the deaf (TDD), you may call the Federal Relay Service (FRS) at 1-800-877-8339.

Individuals with disabilities can obtain this document in an accessible format (e.g., braille, large print, audiotape, or computer diskette) on request to the contact person listed under this section.

SUPPLEMENTARY INFORMATION: This is the second set of corrections to these regulations. The first set of corrections was published in the Federal Register on November 28, 2008 (73 FR 72352).

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

List of Subjects in 34 CFR Part 200

Administrative practice and procedure, Adult education, Children, Education of children with disabilities, Education of disadvantaged children, Elementary and secondary education, Eligibility, Family-centered education, Grant programs—mducation, Indians—education, Infants and children, Institutions of higher education, Juvenile delinquency, Local educational agencies, Migrant labor, Nonprofit private agencies, Private schools, Public agencies, Reporting and recordkeeping requirements, State-administered programs, State educational agencies.

Accordingly, 34 CFR part 200 is corrected by making the following correcting amendments:

PART 200—TITLE I—IMPROVING THE ACADEMIC ACHIEVEMENT OF THE DISADVANTAGED

1. The authority citation for part 200 continues to read as follows:

Authority: 20 U.S.C. 6301 through 6578, unless otherwise noted.

§ 200.7 [Amended]

2. Section 200.7 is amended by:

A. In paragraph (b)(3), removing the words “adequate yearly progress” and adding, in their place, the word “AYP”.

B. In paragraph (b)(4), removing the words “adequate yearly progress” and adding, in their place, the word “AYP”.

§ 200.12 [Amended]

3. Section 200.12(a)(2) is amended by removing the words “adequate yearly progress” and the parentheses around the word “AYP”.

4. Section 200.42 is amended by adding a new paragraph (b)(5) to read as follows:

§ 200.42 Corrective action.

* * * * *

(b) * * *

(5) Continue to comply with § 200.39(c).

* * * * *

5. Section 200.43 is amended by:

A. Adding a new paragraph (b)(5).

B. In paragraph (c)(1)(i), removing the word “and” at the end of the paragraph.

C. In paragraph (c)(1)(ii), removing the punctuation “.” and adding, in its place, the words “; and” at the end of the paragraph.

D. Adding a new paragraph (c)(1)(iii).

The additions read as follows:

§ 200.43 Restructuring.

* * * * *

(b) * * *

(5) Continue to comply with § 200.39(c).

(c) * * *

(1) * * *

(iii) Continue to comply with § 200.39(c).

* * * * *

5. Section 200.48(a)(2)(iii)(B) is amended by removing the word “The” at the beginning of the paragraph and adding, in its place, the words “Except as provided in paragraph (a)(2)(iii)(C) of this section, the”.

Dated: December 18, 2008.
Kerri L. Briggs,
Assistant Secretary for Elementary and Secondary Education.

[FR Doc. E8-30552 Filed 12-22-08; 8:45 am]

BILLING CODE 4000-01-P